DEPARTMENT OF JUSTICE

Justice Management Division

Agency Information Collection Activities: Existing Collection: Common Request

ACTION: Notice of information collection under review: Extension of previously approved collection, Department of Justice procurement blanket clearance.

Office of Management and Budget approval is being sought for the information collection listed below. This collection was previously published in the Federal Register on October 3, 2000, Vol. 65, page 59015, allowing for a 60 day public comment period.

The purpose of this notice is to allow an additional 30 days for public comments. Comments are encouraged and will be accepted until February 5, 2001. This process is conducted in accordance with 5 CFR 3120.10.

Written comments and/or suggestions regarding the items contained in this notice, especially regarding the estimated public burden and associated response time, should be directed to the Office of Management and Budget, Office of Information and Regulatory Affairs: Attention: Mr. Nathan Knuffman, 202-395-5871, Department of Justice Desk Officer, Washington, DC 20503. Additionally, comments may be submitted to OMB via facsimile on 202-395-7285. Written comments and suggestions from the public and affected agencies concerning this collection of information should address one or more of the following four points:

(1) Evaluate whether the proposed collection of information is necessary for the proper performance of the functions of the agency, including whether the information will have practical utility;

(2) Evaluate the accuracy of the agency's estimate of the burden of the proposed collection of information, the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Comments may also be submitted to the Department of Justice, Justice Management Division, Information Management and Security Staff, Attention: Department Deputy Clearance Officer.

Overview of this Collection

(1) Type of information collection: Extension of Current Collection.

(2) The title of the form/collection: Department of Justice Procurement Blanket Clearance.

(3) The agency form number, if any, and applicable component of the Department sponsoring the collection: Procurement Solicitation Documents, Justice Management Division, Department of Justice.

(4) Affected public who will be asked or required to respond, as well as a brief abstract. Primary: Commercial organizations and individuals who voluntarily submit offers and bids to compete for contract awards to provide supplies and services required by the Government. All work statements and pricing data are required to evaluate the contractors bid or proposal.

(5) An estimate of the total number of respondents and the amount of time for an average respondent to respond: 7,462 respondents, 20 hours average response time.

(6) An estimate of the total public burden (in hours) associated with this collection: 149,240 hours annually.

If additional information is required contact: Ms. Brenda E. Dyer, Deputy Clearance Officer, United States Department of Justice, Information Management and Security Staff, Justice Management Division, Suite 1220, National Place, 1331 Pennsylvania Avenue, NW., Washington, DC 20530.

Dated: December 20, 2000.
Brenda E. Dyer,
Department Clearance Officer, United States Department of Justice.

[FR Doc. 01-229 Filed 1-3-01; 8:45 am]

BILLING CODE 4410-26-M